DEPARTMENT OF ENERGY

Federal Energy Regulatory Commission

[Docket No. AD06-7-000; Docket No. ER06-826-000] ¹

Presentations on the Role of RTO/ISO Market Monitors; PJM Market Monitoring Plan; Notice of Presentations on the Role of RTO/ISO Market Monitors

April 12, 2006.

The Federal Energy Regulatory Commission (FERC) will meet with the market monitors of regional transmission organizations (RTOs) and independent system operators (ISOs) to receive and discuss presentations on their role in their regional markets. The meeting is scheduled for May 18, 2006, in Room 2C, 888 First Street, NE., Washington, DC 20426 at or around 1 p.m. (EDT) and will conclude in late afternoon. (The starting time may be delayed by the Open Commission Meeting taking place that morning.) All interested persons are invited to attend.

¹ The Commission will not make any decisions in this docket at this meeting; however, as the proceeding may be discussed, the Commission is noticing the docket to ensure no violation of the Government in Sunshine Act requirements occurs.

The Commission has invited RTO/ISO market monitors to make presentations about their role as market monitors, their resources and how they are used, and their current market monitoring priorities.

A free Webcast of this event is available through http://www.ferc.gov. Anyone with Internet access who desires to view this event can do so by navigating to http://www.ferc.gov's Calendar of Events and locating this event in the Calendar. The event will contain a link to its Webcast. The Capitol Connection provides technical support for the Webcasts and offers access to the meeting via phone bridge for a fee. If you have any questions, visit http://www.CaptiolConnection.org or contact Danelle Perkowski or David Reininger at 703-993-3100.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Transcripts of the meeting will be available immediately for a fee from Ace Reporting Company (202-347-3700 or 1-800-336-6646). They will be available for free on the Commission's eLibrary system and on the events calendar approximately one week after the meeting.

All are invited. There is no pre-registration and there is no fee to attend this meeting. Questions about the meeting should be directed to William Booth at William.Booth@FERC.gov or by phone at 202-502-8849.

Magalie R. Salas,
Secretary.

[FR Doc. E6-5830 Filed 4-18-06; 8:45 am]

BILLING CODE 6717-01-P